DEPARTMENT OF HOMELAND SECURITY

Coast Guard

[Docket No. USCG-2024-0042]

New Merchant Mariner Credential

AGENCY: Coast Guard, DHS.

ACTION: Notice of availability.

SUMMARY: The Coast Guard announces the availability of a new style of Merchant Mariner Credential (MMC) for review. The new style of MMC is replacing the current passport-style MMC. The new MMC will be implemented on March 1, 2024. Issuance of the passport-style MMC will be discontinued on the same date. Passport-style MMCs will remain valid through their expiration date. The Coast Guard has included an example of the new MMC in this docket for review. The Coast Guard will continue to produce mariner medical certificates in their current format.

FOR FURTHER INFORMATION CONTACT: For additional information about this document, questions may be directed to Mr. Charles Bright, U.S. Coast Guard Office of Merchant Mariner Credentialing, telephone 202-372-1046, email Charles.J.Bright@uscg.mil, or to Mr. Brian Eichelberger, telephone 202-372-1450, email Brian.T.Eichelberger@uscg.mil.

SUPPLEMENTARY INFORMATION:

Viewing Material in the Docket

To view documents mentioned in this notice as being available in the docket, go to the Federal Decision-Making Portal at http://www.regulations.gov. To do so, go to https://www.regulations.gov, type USCG-2024-0042 in the search box and click “Search.” Next, look for this document in the Search Results column, and click on it. Select “Supporting & Related Material” in the Document Type column.

The new credential may also be viewed on the U.S. Coast Guard National Maritime Center website at https://www.dco.uscg.mil/national_maritime_center/.

Discussion

The Coast Guard is issuing this notice of an update to the format of the Merchant Mariner Credential (MMC) by replacing the current passport-style MMC. The passport-style MMC was designed for the Coast Guard mariner credentialing program and is produced by the Coast Guard National Maritime Center (NMC) using specialty printers. These printers have been in use since 2015. They have reached the end of their lifecycles, and replacements are not readily available. The passport-style MMC requires printing on multiple pages to provide the requisite mariner information and endorsements. As noted, printing capabilities for the current passport-style MMC have diminished and, at times, creates production delays and backlogs in issuing MMCs to mariners.

To avoid future printing delays and production backlogs, the Coast Guard will implement a new MMC format and printing process. The new MMC is a single, two-sided page produced on synthetic paper with embedded security features. It is printed using readily available commercial printers. The paper is also tear and water resistant. A sample of the new credential is provided in this docket as described under the SUPPLEMENTARY INFORMATION portion of this notice. A document providing a more detailed overview of the individual sections and features of the new credential is also included in the docket.

The earliest implementation date for the new credential is March 1, 2024. We will notify the industry via the NMC website if the date changes due to unforeseen issues. The current passport-style MMC will not be immediately replaced for all mariners. Instead, the new credential will be issued during their next credential transaction. Mariners should not request a new MMC unless their current one is lost, damaged, or nearing expiration.

In the future, the Coast Guard intends to implement an electronically issued MMC that meets domestic and international requirements. In addition to the electronic credential, the Coast Guard anticipates maintaining some printing options to support the mariners and maritime industry needs.

This notice is issued under authority of title 46 of the United States Code (U.S.C.), sections 2104, 7101, and 7302.

Dated: February 16, 2024.
J.G. Lantz,
Director of Commercial Regulations and Standards, U.S. Coast Guard.

[FR Doc. 2024-03568 Filed 2-21-24; 8:45 am]

BILLING CODE 9110-04-P